ENVIRONMENTAL PROTECTION AGENCY

[EPA-HQ-OAR-2015-0216; FRL-9932-42-OAR]

RIN 2060-ZA22

Release of Draft Control Techniques Guidelines for the Oil and Natural Gas Industry

AGENCY: Environmental Protection Agency (EPA).

ACTION: Notice of availability.

SUMMARY: The Environmental Protection Agency (EPA) is announcing the availability of a draft Control Techniques Guidelines (CTG) document for select oil and natural gas industry emission sources. This document, when finalized, will provide state, local, and tribal air agencies (air agencies) information to assist them in determining reasonably available control technology (RACT) for volatile organic compound (VOC) emissions from such sources.

DATES: Comments must be received on or before November 17, 2015.

ADDRESSES: The draft Control Techniques Guidelines for the Oil and Natural Gas Industry is available primarily via the Internet at http://www.epa.gov/airquality/oilandgas/index.html.

Submit your comments, identified by Docket ID No. EPA-HQ-OAR-2015-0216, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

Instructions. Direct your comments to Docket ID No. EPA-HQ-OAR-2015-0216. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any CD you submit. If the EPA cannot read your comment due to technical difficulties and cannot contact you for clarification, the EPA may not be able to consider your comment. Electronic files should avoid the use of special characters, avoid any form of encryption and be free of any defects or viruses. For additional information about the EPA's public docket, visit the EPA Docket Center homepage at http://www.epa.gov/epahome/dockets.htm. For additional instructions on submitting comments, go to section I.A of the SUPPLEMENTARY INFORMATION section of this document.

Docket. All documents in the docket are listed in the http://www.regulations.gov index. Although listed in the index, some information is not publicly available, e.g., CBI or other information whose disclosure is restricted by statute. Certain other material, such as copyrighted material, will be publicly available only in hard copy. Publicly available docket materials are available either electronically at http://www.regulations.gov or in hard copy at the U.S. Environmental Protection Agency, EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Ms. Charlene Spells, U.S. Environmental Protection Agency, Office of Air Quality Planning and Standards, Sector Policies and Programs Division (E143-05), Research Triangle Park, NC 27711; telephone number:(919) 541- 5255; fax number:(919) 541-3470; email:spells.charlene@epa.gov.

SUPPLEMENTARY INFORMATION:

I. General Information

A. What should I consider as I prepare my comments?

Submitting CBI. Do not submit this information to the EPA through http://www.regulations.gov or email. Clearly mark the part or all of the information that you claim to be CBI. For CBI information in a CD that you mail to the EPA, mark the outside of the CD as CBI and then identify electronically within the CD the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Tiffany Purifoy, OAQPS Document Control Officer (C404-02), U.S. EPA, Research Triangle Park, NC 27711, Attention Docket ID No. EPA-HQ-OAR-2015-0216.

II. Information About the Document

Section 172(c)(1) of the Clean Air Act (CAA) provides that State Implementation Plans (SIPs) for nonattainment areas must include “reasonably available control measures”, including “reasonably available control technology” (RACT), for existing sources of emissions. Section 182(b)(2)(A)of the CAA requires that for Moderate ozone nonattainment areas, states must revise their SIPs to include RACT for each category of VOC sources covered by a CTG document issued between November 15, 1990, and the date of attainment. CAA section 182(c) through (e) applies this requirement to States with ozone nonattainment areas classified as Serious, Severe and Extreme.

The CAA also imposes the same requirement on States in ozone transport regions (OTR). Specifically, CAA Section 184(b) provides that states in the Ozone Transport Region (OTR) must revise their SIPs to implement RACT with respect to all sources of VOCs in the state covered by a CTG issued before or after November 15, 1990. CAA section 184(a) establishes a single OTR comprised of Connecticut, Delaware, Maine, Maryland, Massachusetts, New Hampshire, New Jersey, New York, Pennsylvania, Rhode Island, Vermont and the Consolidated Metropolitan Statistical Area (CMSA) that includes the District of Columbia.

The EPA defines RACT as “the lowest emission limitation that a particular source is capable of meeting by the application of control technology that is reasonably available considering technological and economic feasibility” (44 FR 53761, September 17, 1979). The EPA is developing this CTG to provide air agencies information to assist them in determining RACT for VOC from select oil and natural gas emission sources. In developing the CTG, the EPA, among other things, evaluated the sources of VOC emissions from the oil and natural gas industry and the available control approaches for addressing these emissions, including the costs of such approaches. Based on available information and data, the EPA is providing draft recommendations for RACT for select oil and natural gas industry emission sources. The VOC RACT recommendations contained in this draft CTG were made based on a review of the 1983 CTG, the oil and natural gas NSPS, existing state and local VOC emission reduction approaches, and information on costs, emissions and available emission control technologies obtained since issuance of these guidelines and rules. For instance, the EPA released for external peer review five technical white papers on potentially significant sources of emissions in the oil and gas sector. We considered information included in the white papers, along with the input we received from the peer reviewers and the public, when evaluating and recommending a RACT level of control for emission sources. Upon finalization of the CTG, air agencies can use the recommendations in the CTG to inform their determinations as to what constitutes RACT for VOC for these oil and natural gas industry emission sources in their particular areas. The information contained in the CTG is provided only as guidance. This guidance does not change, or substitute for, requirements specified in applicable sections of the CAA or the EPA's regulations; nor is it a regulation itself. The CTG does not impose any legally binding requirements on any entity. It provides only recommendations for air agencies to consider in determining RACT. Air agencies are free to implement other technically-sound approaches that are consistent with the CAA and the EPA's regulations.

The recommendations contained in the CTG are based on data and information currently available to the EPA. These general recommendations may not apply in all situations. Regardless of whether a state chooses to implement the recommendations contained in a CTG through state rules, or to issue state rules that adopt different approaches for RACT for VOC from oil and natural gas industry emission sources, states must submit their RACT rules to the EPA for review and approval as part of the SIP process. The EPA will evaluate the rules and determine, through notice and comment rulemaking in the SIP review process, whether the submitted rules meet the RACT requirements of the CAA and the EPA's regulations. To the extent a state adopts any of the recommendations in this CTG, upon its finalization, into its state RACT rules, interested parties can raise questions and objections about the substance of this guidance and the appropriateness of the application of this guidance to a particular situation during the development of the state rules and the EPA's SIP review process.

Section 182(b)(2) of the CAA requires that a CTG issued between November 15, 1990, and the date of attainment provide the period for submitting SIP revisions in response to such CTG. In the draft CTG, the EPA is providing a two-year period, from the date of final issuance, for the required submittal.

The Tribal Authority Rule (63 FR 7254, February 12, 1998) (TAR) identifies CAA provisions for which it is appropriate to treat Indian tribes in the same manner as states (TAS). Pursuant to the TAR, tribes may apply for TAS for purposes of CAA section 110 and Part D planning requirements in CAA section 172. As a result, tribes may, but are not required to, apply for TAS for the purpose a developing a tribal implementation plan (TIP) addressing RACT for sources located in a Moderate (or higher) nonattainment area for ozone within the tribe's jurisdiction. If the EPA grants that status and approves the TIP, the tribe would implement RACT in Moderate (or higher) ozone nonattainment areas within the geographic scope of the TAS designation. If a tribe does not seek and obtain the authority from the EPA to establish a plan, the EPA will be responsible for establishing CAA section 110 and 172 plans for reservations and trust lands if the EPA determines that such a plan is necessary or appropriate to protect air quality in such areas.

III. Specific Comments Solicited

In addition to providing an opportunity to review and comment on the draft CTG, the EPA is also soliciting specific comment on the following:

1. Information on costs associated with retrofitting an existing storage vessel to allow routing of emissions to a control device.

2. Information on the implementation of a monitoring plan that includes the use of optical gas imaging for fugitive emissions at existing well sites.

3. Interaction of the CTG with new builds in areas affected by the CTG. Refer to materials in the docket (EPA-HQ-OAR-2015-0216).

4. The appropriateness of a daily average of 15 barrel equivalents as a representative threshold to define low production wells for purposes of requiring a fugitive emissions program and information on fugitive air emissions associated with low production wells.

Dated: August 18, 2015.
Gina McCarthy,
Administrator.

[FR Doc. 2015-21027 Filed 9-17-15; 8:45 am]

BILLING CODE 6560-50-P